FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 3, 2004.

A. Federal Reserve Bank of Atlanta (Sue Costello, Vice President) 1000 Peachtree Street, N.E., Atlanta, Georgia 30303:

1. Old Post Road, L.P., Madison, Georgia; to acquire voting shares of Madison Bank Corporation, Madison, Georgia, and thereby indirectly acquire voting shares of Bank of Madison, Madison, Georgia.

B. Federal Reserve Bank of St. Louis (Randall C. Sumner, Vice President) 411 Locust Street, St. Louis, Missouri 63166-2034:

1. Samuel Jackson Young, Elizabethtown, Kentucky, individually, and as part of the Young Family control group, which includes Mr. Young and Ginger Young, Spring, Texas; to retain voting shares of Fredonia Valley Bancorp, Inc., Fredonia, Kentucky, and thereby indirectly retain voting shares of Fredonia Valley Bank, Fredonia, Kentucky.

C. Federal Reserve Bank of Kansas City (James Hunter, Assistant Vice President) 925 Grand Avenue, Kansas City, Missouri 64198-0001:

1. Scott Smiley, Avondale, Colorado, as trustee of the Carl W. Smiley Trust Number 1, Carl W. Smiley Trust Number 2, Julia Smiley Trust, Ward B. Smiley Trust A, and Ward B. Smiley Trust B; to acquire voting shares of First Norton Corporation, Norton, Kansas, and thereby indirectly acquire voting shares of First Security Bank & Trust Company, Norton, Kansas.

Board of Governors of the Federal Reserve System, January 13, 2004.
Robert deV. Frierson,
Deputy Secretary of the Board.

[FR Doc. 04-1085 Filed 1-16-04; 8:45 am]

BILLING CODE 6210-01-S